DEPARTMENT OF TRANSPORTATION

Federal Motor Carrier Safety Administration

[FMCSA Docket No. FMCSA-2003-25290]

Commercial Driver's License (CDL) Standards; Isuzu Motors America, Inc.'s Exemption Application

AGENCY: Federal Motor Carrier Safety Administration (FMCSA), DOT.

ACTION: Notice of final disposition; granting of application for exemption.

SUMMARY: FMCSA announces its decision to approve Isuzu Motors America, Inc.'s (Isuzu) application for an exemption for 76 of its drivers to enable them to test-drive commercial motor vehicles (CMVs) in the United States without a commercial driver's license (CDL) issued by one of the States. The Isuzu CMVs are prototypes that require testing under U.S. climatic conditions prior to being placed on the U.S. market. Each of these drivers holds a CDL issued in Japan, but lacks the U.S. residency necessary to obtain a CDL issued by one of the States of the United States. FMCSA believes the knowledge and skills testing and training program that drivers must undergo to obtain a Japanese CDL ensures that these drivers will achieve a level of safety that is equivalent to, or greater than, the level of safety achieved without the exemption.

DATES: This decision is effective April 5, 2007.

FOR FURTHER INFORMATION CONTACT: Mr. Thomas Yager, Chief, Driver and Carrier Operations Division, Office of Bus and Truck Standards and Operations, MC-PSD, Federal Motor Carrier Safety Administration, 400 Seventh Street, SW., Washington, DC 20590-0001. Telephone: 202-366-4009. E-mail: MCPSD@dot.gov.

SUPPLEMENTARY INFORMATION:

Background

Under 49 U.S.C. 31315 and 31136(e), FMCSA may grant an exemption from the CDL requirements in 49 CFR 383.23 for a two-year period if it finds “such exemption would likely achieve a level of safety that is equivalent to, or greater than, the level that would be achieved absent such exemption” (49 CFR 381.305 (a)). FMCSA has evaluated Isuzu's application on its merits and decided to grant the exemption for 76 of Isuzu's engineers and technicians for a two-year period.

Isuzu Application for an Exemption

Isuzu applied for an exemption from the requirement that the operator of a CMV obtain a CDL, specifically 49 CFR 383.23. This section of the Federal Motor Carrier Safety Regulations (FMCSRs) sets forth the standards that States must employ in issuing CDLs to drivers operating in commerce. In the United States, an individual must be a resident of a State in order to qualify for a CDL; ¹ the Isuzu drivers for whom this exemption is sought are all residents of Japan. A copy of the request for exemption from section 383.23 is in the docket identified at the beginning of this notice.

¹ Although 49 CFR 393.23 indicates that these drivers could obtain a Nonresident CDL, few States are currently issuing Nonresident CDLs due to security concerns.

Japanese Drivers

This exemption enables the following drivers to test-drive CMVs in the U.S.: Aihara Hirokazu, Akira Iiduka, Akira Yoshino, Atsushi Hirotsu, Atsushi Yamazaki, Chito Agatsuma, Fuki Yokoyama, Fumiaki Kubo, Fumiaki Takei, Fuyuki Hamanaka, Go Shinozuka, Hideki Shibata, Hiroaki Kurata, Hiroaki Takahashi, Hiromasa Narita, Hiroshi Osada, Hiroyoshi Morohoshi, Hisashi Hashiguchi, Ichirou Watanabe, Jirou Arai, Junichi Yamada, Jyunichi Suda, Kakuya Sekimoto, Kazuhiro Itou, Kazuhiro Teraguchi, Kazuyoshi Tateishi, Ken Ueda, Kenji Takashima, Kiyoaki Nokura, Kiyoshi Toshima, Kohki Natsumi, Manabu Andou, Masaaki Toriyama, Masahiko Gotou, Masahito Katou, Masayuki Tanaka, Minoru Endou, Misturu Denpouy, Mitsugu Sugiura, Motoyuki Kamo, Naoki Morimoto, Naomi Uchida, Naoyuki Itou, Noboru Azuma, Nobuhisa Okuda, Nobuyuki Iwao, Ryo Sato, Ryouji Matsuzawa, Satoshi Yatomi, Shigeo Shimada, Shinya Ishida, Syouji Takahashi, Tadao Shibuya, Tadashi Shoda, Takahiro Maemoto, Takashi Oguma, Takatomo Omukai, Takauki Asaoka, Takayuki Kaneda, Takeshi Kamei, Tatsumi Wakamori, Tatsuya Kawase, Tatsuya Sakata, Tetsuji Oshima, Tetuya Hiromatsu, Toshiaki Shimizu, Toshihiko Sudo, Tsuchida Minoru, Tsugio Fujita, Yasuhiro Sakai, Yasuo Tamamoto, Yasuyuki Fujita, Yoshiaki Miyamoto, Yoshinori Kunieda, Yoshinori Ugai and Youcihi Kurita.

Collectively, these drivers form a team of engineers and technicians. Isuzu currently employs these drivers in Japan, and wants them to be able to operate CMVs in the U.S. for the purpose of testing and evaluating production and prototype Isuzu CMVs to be sold for use on U.S. highways. The drivers are experienced CMV operators with valid Japanese-issued CDLs. Because each of the drivers was required to satisfy strict CDL testing standards in Japan to obtain a CDL, and has extensive training and experience operating CMVs, Isuzu believes that the exemption will maintain a level of safety equivalent to the level of safety that would be obtained absent the exemption.

Method To Ensure an Equivalent or Greater Level of Safety

Drivers in Japan must hold a conventional driver's license for at least three years before applying to obtain a Japanese-issued CDL. At that point, they must take and pass both a knowledge test and a skills test in order to obtain a license to operate CMVs. These tests thoroughly assess the driver's ability to operate a CMV, and are comparable to the tests administered to CDL applicants in the United States. Once a driver is granted a Japanese CDL, he or she is allowed to drive any CMV currently allowed on Japanese roads. There are no limits to types or weights of vehicles that may be operated by the drivers.

Therefore, the process for obtaining a Japanese-issued CDL is considered to be comparable to, or as effective as, the requirements of 49 CFR part 383.

Comments

The Agency received one comment in response to its request for public comments (71 FR 42170, July 25, 2006). The commenter recommended that Isuzu use U.S. drivers for this testing. The commenter did not provide a substantive basis for this opinion. The docket number of this matter is referenced at the beginning of this notice.

FMCSA Decision

The FMCSA decision to grant these drivers an exemption from section 383.23 is based on the merits of the application for exemption, the rigorous knowledge and skills testing of Japanese drivers concerning the safe operation of CMVs, and consideration of the comment submitted in response to the public notice.

Terms and Conditions for the Exemption

After considering the comment to the docket and based upon evaluation of the application for an exemption, FMCSA grants Isuzu an exemption from the Federal commercial driver's license requirement in 49 CFR 383.23 for 76 drivers, identified under the “Japanese Drivers” heading above, to test-drive CMVs within the United States, subject to the following terms and conditions: (1) That these drivers will be subject to drug and alcohol regulations, including testing, as provided in 49 CFR part 382, (2) that these drivers are subject to the same driver disqualification rules under 49 CFR parts 383 and 391 that apply to other CMV drivers in the U.S., (3) that these drivers keep a copy of the exemption on the vehicle at all times, (4) that Isuzu notify FMCSA in writing of any accident, as defined in 49 CFR 390.5, involving one of the exempted drivers, and (5) that Isuzu notify FMCSA in writing if any driver is convicted of a disqualifying offense described in section 383.51 or 391.15 of the FMCSRs.

In accordance with 49 U.S.C. 31315 and 31136(e), the exemption will be valid for 2 years unless revoked earlier by the FMCSA. The exemption will be revoked if: (1) The drivers for Isuzu fail to comply with the terms and conditions of the exemption; (2) the exemption has resulted in a lower level of safety than was maintained before it was granted; or (3) continuation of the exemption would not be consistent with the goals and objectives of 49 U.S.C. 31315 and 31136.

Issued on: March 30, 2007.
John H. Hill,
Administrator.

[FR Doc. E7-6240 Filed 4-4-07; 8:45 am]

BILLING CODE 4910-EX-P